DEPARTMENT OF ENERGY

Environmental Management Site-Specific Advisory Board, Nevada

AGENCY: Department of Energy.

ACTION: Notice of open meeting.

SUMMARY: This notice announces a meeting of the Environmental Management Site-Specific Advisory Board (EM SSAB), Nevada Test Site. The Federal Advisory Committee Act (Pub. L. 92-463, 86 Stat. 770) requires that public notice of this meeting be announced in the Federal Register.

DATES: Thursday, January 10, 2008, 6 p.m.

ADDRESSES: Bob Rudd Community Center, 150 North Highway 160, Pahrump, Nevada 89041.

FOR FURTHER INFORMATION CONTACT: Rosemary Rehfeldt, Board Administrator, 232 Energy Way, M/S 505, North Las Vegas, Nevada 89030. Phone: (702) 657-9088; Fax (702) 295-5300 or e-mail: ntscab@nv.doe.gov.

SUPPLEMENTARY INFORMATION: Purpose of the Board: The purpose of the Board is to make recommendations to DOE in the areas of environmental restoration, waste management, and related activities.

Tentative Agenda:

1. Presentation from the Desert Research Institute on its Low-Level Waste Transportation Study

2. Review of Underground Test Area (UGTA) Pahute Mesa Corrective Action Investigation Plan Addendum meeting by the UGTA Committee

3. Review and approval of recommendation letter for an updated 2008 Waste Transportation Study conducted by DOE Nevada Site Office Environmental Management Program

Public Participation: The meeting is open to the public. Written statements may be filed with the Board either before or after the meeting. Individuals who wish to make oral presentations pertaining to agenda items should contact Rosemary Rehfeldt at the telephone number listed above. The request must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing to Rosemary Rehfeldt at the address listed above or at the following Web site: http://www.ntscab.com/MeetingMinutes.htm.

Issued at Washington, DC on December 17, 2007.
Rachel Samuel,
Deputy Committee Management Officer.

[FR Doc. E7-24829 Filed 12-20-07; 8:45 am]

BILLING CODE 6450-01-P